DEPARTMENT OF HEALTH AND HUMAN SERVICES

National Institutes of Health

National Institute of Neurological Disorders and Stroke; Notice of Meeting

Pursuant to section 10(d) of the Federal Advisory Committee Act, as amended, notice is hereby given of a meeting of the HEAL (Helping to End Addiction Long-Term) Multi-Disciplinary Working Group.

The meeting will be held virtually and open to the public as indicated below. Individuals who plan to participate and need special assistance, such as sign language interpretation or other reasonable accommodations, should notify the Contact Person listed below in advance of the meeting.

The meeting will be closed to the public in accordance with the provisions set forth in sections 552b(c)(4) and 552b(c)(6), Title 5 U.S.C., as amended. The program documents and the discussions could disclose confidential trade secrets or commercial property such as patentable material, and personal information concerning individuals associated with the program documents, the disclosure of which would constitute a clearly unwarranted invasion of personal privacy.

Name of Committee: HEAL Multi-Disciplinary Working Group.

Date/Time: February 6, 2023, 11:00 a.m. to 4:00 p.m. Eastern Standard Time (EST) and February 15-16, 2023, 11:00 a.m. to 3:00 p.m. Eastern Standard Time (EST).

Agenda: To review and evaluate Helping to End Addiction Long-Term (HEAL) Initiative projects and obtain expertise from MDWG relevant to the NIH HEAL Initiative and to specific HEAL projects.

Open: February 6, 2023, 11:00 a.m. to 12:30 p.m. EST.

Closed: February 6, 2023, 12:30 p.m. to 4:00 p.m. EST.

Open: February 15, 2023, 11:00 a.m. to 3:00 p.m. EST.

Open: February 16, 2023, 11:00 a.m. to 3:00 p.m. EST.

Place: National Institutes of Health, Building 1, Wilson Hall, 1 Center Drive, Bethesda, MD 20892 (Virtual Meeting).

Contact Person: Rebecca G. Baker, Ph.D., Office of the Director, National Institutes of Health, 1 Center Drive, Room 103A, Bethesda, MD 20892, (301) 402-1994, Rebecca.baker@nih.gov.

The meeting agenda will be available on the HEAL Initiative website: https://heal.nih.gov/news. Individuals are encouraged to access the meeting web page to stay abreast of the most current information regarding the meeting.

(Catalogue of Federal Domestic Assistance Program Nos. 93.853, Clinical Research Related to Neurological Disorders; 93.854, Biological Basis Research in the Neurosciences, National Institutes of Health, HHS)

Dated: January 11, 2023.
Tyeshia M. Roberson-Curtis,
Program Analyst, Office of Federal Advisory Committee Policy.

[FR Doc. 2023-00756 Filed 1-17-23; 8:45 am]

BILLING CODE 4140-01-P